DEPARTMENT OF TRANSPORTATION

Federal Highway Administration

[Docket No. FHWA-2001-10399]

Agency Information Collection Activities; Request for Comments; Clearance of a New Information Collection; FHWA Highway Design Handbook for Older Drivers and Pedestrians Workshop Participants' Feedback Survey

AGENCY: Federal Highway Administration (FHWA), DOT.

ACTION: Notice and request for comments.

SUMMARY: The FHWA invites public comments about our intention to request the Office of Management and Budget's (OMB) approval for a new information collection. The collection involves a survey of participants who have attended the FHWA Highway Design Handbook For Older Drivers and Pedestrians Workshop to determine the extent of use and barriers to the recommendations and guidelines discussed in the Handbook and Workshop. We are required to publish this notice in the Federal Register by the Paperwork Reduction Act of 1995.

DATES: Please submit comments by October 22, 2001.

ADDRESSES: You may mail or hand deliver comments to the U.S. Department of Transportation, Dockets Management Facility, Room PL-401, 400 Seventh Street, SW., Washington, DC 20590; telefax comments to 202/493-2251; or submit electronically at http://dmses.dot.gov/submit. All comments should include the docket number in this notice's heading. All comments may be examined and copied at the above address from 9 a.m. to 5 p.m., Monday through Friday, except Federal holidays. If you desire a receipt you must include a self-addressed stamped envelope or postcard or, if you submit your comments electronically, you may print the acknowledgment page.

FOR FURTHER INFORMATION CONTACT: Mr. David Smith, 202-366-6614, Safety Core Business Unit, Federal Highway Administration, Department of Transportation, 400 Seventh Street, SW., Washington, DC 20590. Office hours are from 7:30 a.m. to 5:00 p.m., Monday through Friday, except Federal holidays.

SUPPLEMENTARY INFORMATION: Title: FHWA Highway Design Handbook For Older Drivers and Pedestrians Workshop Participants' Feedback Survey

Background: The FHWA developed and published in 1998 an “Older Driver Highway Design Handbook, Recommendation and Guidelines” for highway designers, traffic engineers and highway safety specialists involved in the design and operation of highway facilities. The Handbook provides practitioners with a practical information source that links older driver road user characteristics to highway design, operational, and traffic engineering recommendations by addressing specific roadway features. A new, revised handbook, “Guidelines and Recommendations to Accommodate Older Drivers and Pedestrians,” was published in 2001 that documents new research findings and technical developments since the 1998 publication.

A series of workshops began in 1998 to familiarize practitioners with the recommendations and guidelines. Over 30 workshops have been presented to approximately 900 practitioners, and the workshops are continuing with additional workshops scheduled to provide information to practitioners from the new, revised handbook.

This survey is needed to determine if recommendations and guidelines presented to practitioners in past workshops are being utilized in new and redesigned highway facilities to accommodate the needs and functional limitations of an aging population of road users. The survey is also needed to gauge the success of the workshop presentations in imparting information and determine if adjustments should be considered for future workshops.

Respondents: Participants in past workshops, including highway designers, highway engineers and highway safety specialists; and future workshop participants.

Frequency: This one-time survey will be conducted initially with a selection of past participants (approximately 500). Thereafter, a survey of participants will be conducted annually, consisting of approximately 50 percent of the participants who attended workshops during that year (approximately 125). The survey will be mailed, and for those participants with known e-mail addresses, the survey will be administered electronically to reduce completion time.

Estimated Total Annual Burden Hours: The FHWA estimates that each respondent will be able to complete the survey in approximately 10 minutes. For the initial survey to approximately 500 respondents, total burden hours would be 84 hours. Future annual surveys to approximately 125 respondents are estimated at 21 burden hours.

Public Comments Invited:

You are asked to comment on any aspect of this information collection, including: (1) Whether the proposed collection is necessary for the FHWA's performance; (2) the accuracy of the estimated burdens; (3) ways for the FHWA to enhance the quality, usefulness, and clarity of the collected information; and (4) ways that the burdens could be minimized, including use of electronic technology, without reducing the quality of the collected information. The agency will summarize and/or include your comments in the request for OMB's clearance of this information collection.

Electronic Access:

Internet users may access all comments received by the U.S. DOT Dockets, Room PL-401, by using the universal resource locator (URL): http://dms.dot.gov. It is available 24 hours each day, 365 days each year. Please follow the instructions online for more information and help. An electronic copy of this document may be downloaded using a modem and suitable communications software from the Government Printing Office Electronic Bulletin Board Service at telephone number 202-512-1661. Internet users may reach the Federal Register's home page at: http://www.nara.gov/fedreg and the Government Printing Office's database at http://www.access.gpo.gov/nara.

Authority: The Paperwork Reduction Act of 1995; 44 U.S.C. Chapter 35, as amended; and 49 CFR 1.48.

Issued on: August 17, 2001.
James R. Kabel,
Chief, Management Programs and Analysis Division.

[FR Doc. 01-21304 Filed 8-22-01; 8:45 am]

BILLING CODE 4910-22-P